DEPARTMENT OF THE INTERIOR

Office of the Secretary

Privacy Act of 1974, as Amended; Notice of a New System of Records

AGENCY: Office of the Secretary, Interior.

ACTION: Notice of creation of a new system of records.

SUMMARY: Pursuant to the provisions of the Privacy Act of 1974, as amended, the Department of the Interior is issuing a public notice of its intent to create the Department of the Interior system of records titled, “Donations Program Files.” This system will assist the Department of the Interior in managing the Donations Program and facilitating the acceptance and solicitation of donations of money, real property, personal property, services, or other gifts by members of the public and organizations. This newly established system will be included in the Department of the Interior's inventory of Privacy Act records systems.

DATES: Comments must be received by December 17, 2012. This new system will be effective December 17, 2012.

ADDRESSES: Any person interested in commenting on this new system of records may do so by submitting written comments to the OS/NBC Privacy Act Officer, 1849 C Street NW., Mail Stop 2650 MIB, Washington, DC 20240; or emailing comments to privacy@nbc.gov.

FOR FURTHER INFORMATION CONTACT: Partnerships Coordinator, Office of Youth, Partnerships and Service, Department of the Interior, 1849 C Street NW., Mail Stop 3559 MIB, Washington, DC 20240; or by telephone at 202-208-6667.

SUPPLEMENTARY INFORMATION:

I. Background

The Department of the Interior (DOI) is creating the Donations Program Files system of records. The purpose of this system is to assist the Department of the Interior in managing the Donations Program and facilitating the acceptance and solicitation of donations of money, real property, personal property, services, or other gifts by members of the public and organizations. The system will be effective as proposed at the end of the comment period (the comment period will end 40 days after the publication of this notice in the Federal Register), unless comments are received that would require a contrary determination. DOI will publish a revised notice if changes are made based upon a review of the comments received.

II. Privacy Act

The Privacy Act of 1974, as amended, embodies fair information practices in a statutory framework governing the means by which Federal agencies collect, maintain, use, and disseminate individuals' personal information. The Privacy Act applies to information that is maintained in a “system of records.” A “system of records” is a group of any records under the control of an agency for which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act Regulations, 43 CFR part 2.

The Privacy Act requires each agency to publish in the Federal Register a description denoting the type and character of each system of records that the agency maintains, the routine uses that are contained in each system in order to make agency record keeping practices transparent, to notify individuals regarding the uses of their records, and to assist individuals to more easily find such records within the agency. Below is the description of the Donations Program Files system of records.

In accordance with 5 U.S.C. 552a(r), DOI has provided a report of this system of records to the Office of Management and Budget and to Congress.

III. Public Disclosure

Before including your address, phone number, email address, or other personal identifying information in your comment, you should be aware that your entire comment—including your personal identifying information—may be made publicly available at any time. While you can ask us in your comment to withhold your personal identifying information from public review, we cannot guarantee that we will be able to do so.

David Alspach,
OS/NBC Privacy Act Officer.

SYSTEM OF RECORDS:

DOI-12

SYSTEM NAME:

Donations Program Files

SYSTEM CLASSIFICATION:

Unclassified.

SYSTEM LOCATION:

Records in this system are maintained by the Department of the Interior Office of Youth, Partnerships and Service, 1849 C Street NW., Mail Stop 3559 MIB, Washington, DC 20240; and Bureaus and Offices that manage Donations Programs.

CATEGORIES OF INDIVIDUALS COVERED BY THE SYSTEM:

Individuals who donate money, real property, personal property, services, or other gifts to the Department of the Interior, prospective donors, and other individuals who contact or correspond with the Department of the Interior officials on matters related to the Donations Program. This system may also include current and former Federal government employees, contractors, and volunteers who are involved in the management of the Donations Program. This system contains records concerning corporations and other business entities, which are not subject to the Privacy Act. However, records pertaining to individuals acting on behalf of corporations and other business entities may reflect personal information.

CATEGORIES OF RECORDS IN THE SYSTEM:

This system contains information provided by individuals or organizations who propose to donate money, real property, personal property, services, or other gifts to the Department of the Interior, and may include names, home or work addresses, phone numbers, email addresses, other contact information, financial data such as the amount of the donation and method of remittance, biographical information, and miscellaneous information about gifts donated in the past. This system also contains background data and affiliations related to eligibility determinations for proposed donations; correspondence or other data related to the acceptance of proposed donations; and correspondence and data related to the management of the Donations Program.

AUTHORITY FOR MAINTENANCE OF THE SYSTEM:

Statutes that allow the Department to accept donations and/or contributions, including 43 U.S.C. 1737, 16 U.S.C. 6 and 43 U.S.C. 36c.

ROUTINE USES OF RECORDS MAINTAINED IN THE SYSTEM, INCLUDING CATEGORIES OF USERS AND THE PURPOSES OF SUCH USES:

The records will be used by the Department of the Interior to manage the Donations Program and facilitate the evaluation, acceptance, and solicitation of donations of money or other gifts by members of the public and organizations. In addition to those disclosures generally permitted under 5 U.S.C. 552a(b) of the Privacy Act, disclosures outside DOI may be made as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To the Executive Office of the President in response to an inquiry from that office made at the request of the subject of a record or a third party on that person's behalf, or for a purpose compatible for which the records are collected or maintained.

(4) To any criminal, civil, or regulatory law enforcement authority (whether federal, state, territorial, local, tribal or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, state, territorial, local, tribal, or foreign agencies that have requested information relevant or necessary to the hiring, firing or retention of an employee or contractor, or the issuance of a security clearance, license, contract, grant or other benefit, when the disclosure is compatible with the purpose for which the records were compiled.

(7) To representatives of the National Archives and Records Administration to conduct records management inspections under the authority of 44 U.S.C. 2904 and 2906.

(8) To state, territorial and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To a consumer reporting agency if the disclosure requirements of the Debt Collection Act, as outlined at 31 U.S.C. 3711(e)(1), have been met.

(14) To the news media and the public, with the approval of the Public Affairs Officer in consultation with Counsel and the Senior Agency Official for Privacy, where there exists a legitimate public interest in the disclosure of the information, except to the extent it is determined that release of the specific information in the context of a particular case would constitute an unwarranted invasion of personal privacy.

(15) To an official of another Federal, state, territorial, local, tribal, or foreign agency to provide information needed in the performance of official duties related to the verification, authorization, or processing of money, real property, personal property, services, or other gift donations by individuals or organizations, or any issue otherwise related to the purpose for which the records were compiled.

POLICIES AND PRACTICES FOR STORING, RETRIEVING, ACCESSING, RETAINING AND DISPOSING OF RECORDS IN THE SYSTEM:

STORAGE:

Records are maintained in paper form in file folders stored in file cabinets. Electronic records are maintained in computers, computer databases, email, and electronic media such as removable drives, magnetic disk, diskette, and computer tapes.

RETRIEVABILITY:

Information within this system may be retrieved by individual's name, organization name, nature of the gift, size of the donation, and may also be retrieved by key word search.

SAFEGUARDS:

The records contained in this system are safeguarded in accordance with 43 CFR 2.51 and other applicable security rules and policies. During normal hours of operation, paper records are maintained in locked filed cabinets under the control of authorized personnel. Computers and storage media are encrypted in accordance with DOI security policy. The computer servers in which electronic records are stored are located in Department of the Interior facilities that are secured by security guards, alarm systems and off-master key access. Access to servers containing records in this system is limited to DOI personnel and other authorized parties who have a need to know the information for the performance of their official duties, and requires a valid username and password. Electronic records are safeguarded by permissions set to “Authenticated Users” which require password login. Personnel authorized to access the system must complete all Security, Privacy, and Records management training and sign the Rules of Behavior.

RETENTION AND DISPOSAL:

Records are retained and disposed of in accordance with applicable bureau or office records schedules or General Records Schedule (GRS) approved by the National Archives and Records Administration (NARA). Records will be destroyed when no longer needed for agency business in accordance with records retention schedules and NARA guidelines. Paper records are disposed of by shredding or pulping, and records contained on electronic media are degaussed or erased in accordance with 384 Departmental Manual 1.

SYSTEM MANAGER AND ADDRESS:

Partnerships Coordinator, Office of Youth, Partnerships and Service, Department of the Interior, 1849 C Street NW., Mail Stop 3559 MIB, Washington, DC 20240.

NOTIFICATION PROCEDURES:

An individual requesting notification of the existence of records on himself or herself should send a signed, written inquiry to the System Manager identified above. The request envelope and letter should be clearly marked “PRIVACY ACT INQUIRY”. A request for notification must meet the requirements of 43 CFR 2.60.

RECORDS ACCESS PROCEDURES:

An individual requesting access to records on himself or herself should send a signed, written inquiry to the System Manager identified above. The request envelope and letter should be clearly marked “PRIVACY ACT REQUEST FOR ACCESS”. The request letter should describe the records sought as specifically as possible. A request for access must meet the requirements of 43 CFR 2.63.

CONTESTING RECORDS PROCEDURES:

An individual requesting corrections or contesting information contained in his or her records must send a signed, written request to the System Manager identified above. A request for corrections or removal must meet the requirements of 43 CFR 2.71.

RECORD SOURCE CATEGORIES:

Records in the system are obtained from individual members of the public, organizations, DOI officials, employees, contractors, volunteers, and may be obtained from other Federal officials, state, territorial and local government officials, and non-governmental organizations, in the course of daily business activities and communications related to the management of the Donations Program.

EXEMPTIONS CLAIMED FOR THE SYSTEM:

None.

[FR Doc. 2012-26997 Filed 11-5-12; 8:45 am]

BILLING CODE P